DEPARTMENT OF ENERGY

Federal Energy Regulatory Commission

[Docket No. PF13-8-000]

Sabine Pass Liquefaction Expansion, LLC; Sabine Pass Liquefaction, LLC; Sabine Pass LNG, L.P.; Cheniere Creole Trail Pipeline, L.P.: Notice of Intent To Prepare an Environmental Assessment for the Planned Sabine Pass Liquefaction Expansion Project and Cheniere Creole Trail Pipeline Expansion Project, Request for Comments on Environmental Issues and Notice of Public Scoping Meetings

The staff of the Federal Energy Regulatory Commission (FERC or Commission) will prepare an environmental assessment (EA) that will discuss the environmental impacts of the expansion and operation of the Sabine Pass Liquefaction Expansion, LLC; Sabine Pass Liquefaction, LLC; and Sabine Pass LNG, L.P. (collectively referred to as Sabine Pass) Sabine Pass Liquefaction Expansion Project (SPLE Project) and the Cheniere Creole Trail Pipeline, L.P. (CCTPL) Chenier Creole Trail Pipeline Expansion Project (CCTPL Expansion Project). Sabine Pass is proposing to expand the existing Sabine Pass Liquefied Natural Gas (SPLNG) Terminal in Cameron Parish, Louisiana. CCTPL is proposing to expand and extend its existing pipeline system within the following parishes in the State of Louisiana: Cameron, Calcasieu, Beauregard, Allen, and Evangeline. Together, the SPLE Project and the CCTPL Expansion Project are referred to as the Project. This EA will be used by the Commission in its decision-making process to determine whether the Project is in the public convenience and necessity.

This notice announces the opening of the scoping process the Commission will use to gather input from the public and interested agencies on the Project. Your input will help the Commission staff determine what issues need to be evaluated in the EA. Please note that the project scoping period will close on July 10, 2013.

You may submit comments in written form or verbally. Further details on how to submit written comments are provided in the Public Participation section of this notice. In lieu of or in addition to sending written comments, the Commission invites you to attend the public scoping meetings listed below.

Date and time | Location
Tuesday, June 18, 2013, 6:00 pm CDT | Comfort Suites, 2505 Highway 108, South, Sulphur, LA 70665.
Wednesday, June 19, 2013, 6:00 pm CDT | Kinder City Hall Community Center, 316 North 8th Street, Kinder, LA 70648.

This notice is being sent to the Commission's current environmental mailing list for these projects as described under the Environmental Mailing List Section of this notice. State and local government representatives are asked to notify their constituents of these planned projects and encourage them to comment on their areas of concern.

If you are a landowner receiving this notice, a company representative may contact you about the acquisition of an easement to construct, operate, and maintain the planned facilities. The company would seek to negotiate a mutually acceptable agreement. However, if the Commission approves these projects, that approval conveys with it the right of eminent domain. Therefore, if easement negotiations fail to produce an agreement, the Companies could initiate condemnation proceedings where compensation would be determined in accordance with state law.

A fact sheet prepared by the FERC entitled “An Interstate Natural Gas Facility on My Land? What Do I Need To Know?” is available for viewing on the FERC Internet Web site (www.ferc.gov). This fact sheet addresses a number of typically asked questions, including the use of eminent domain and how to participate in the Commission's proceedings.

Summary of the Planned Project

The SPLE Project would primarily consist of the addition of two liquefaction trains (Trains 5 and 6) capable of processing an average of 1.3 billion cubic feet per day (Bcf/d) of natural gas and to export about 9 million metric tonnes of liquefied natural gas (LNG) per annum (mtpa) via LNG carriers. Trains 5 and 6 would comprise Stage 3 of the Sabine Pass Liquefaction Project, which is currently under construction at the SPLNG Terminal. When completed, all six liquefaction trains at the SPLNG Terminal would be capable of processing an average of 4.0 Bcf/d of natural gas and to export about 27 million mtpa. The SPLE Project would be located within areas that have been evaluated and assessed in conjunction with the Commission's review and approval of other portions of the SPLNG Terminal.¹

¹ See Docket Nos. CP04-47-000, CP04-38-000, CP04-39-000, CP04-40-000, CP05-396-000, CP04-47-001, CP-05-396-001, CP11-72-000, and CP13-02-000.

The SPLE Project would consist of the following facilities:

• Two LNG liquefaction trains;

• Additional power generation (two gas turbine generators capable of generating approximately 30 megawatts of power);

• Other infrastructure and modifications (including five recycle boil-off gas compressors, three instrument air compressor packages, two demineralizer units, one demineralized water tank, and two diesel-powered standby generators);

• Modification of terminal facilities; and

• New and remodeled buildings.

CCTPL plans to expand and extend the existing CCTPL pipeline system to enable it to provide an additional 1.5 Bcf/d of transportation capacity to the SPLNG Terminal. The CCTP Expansion Project would involve the addition of approximately 98.7 miles of pipeline, including two loops (Loop 1 and Loop 2), an Extension, and three laterals. In addition, CCTPL would install a new compressor station and four metering and regulating (M&R) stations. Several components of the planned CCTPL Expansion Project occur in areas that have been evaluated and assessed in conjunction with the previous FERC review and approval of the Sabine Pass Pipeline and Cheniere Creole Trail Pipeline.²

² See Docket Nos. CP04-47-000, CP04-38-000, CP04-40-000, CP05-360-000, CP05-357-000, CP05-358-000, CP05-359-000, and CP12-351-000.

The CCTPL Expansion Project would consist of the following facilities in Louisiana:

• Loop 1, about 13.7 miles of 42-inch-diameter pipeline in Cameron Parish;

• Loop 2, about 24.5 miles of 42-inch-diameter pipeline in Calcasieu and Beauregard Parishes;

• Extension, about 46.8 miles of 42-inch-diameter pipeline in Beauregard, Allen, and Evangeline Parishes;

• Laterals, three 36-inch-diameter laterals (two 1,000-foot-long laterals and one 13.3-mile-long lateral) in Evangeline Parish;

• New or modified compressors at the previously-authorized Gillis Compressor Station in Beauregard Parish;

• A new Mamou Compressor Station in Evangeline Parish;

• Four new M&R Stations;

• Pig launchers/receivers; and

• Mainline valves (MLVs).

The general location map of the project facilities is in Appendix 1.³

³ The appendices referenced in this notice will not appear in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the planned SPLE Project would disturb about 156 acres of the 853-acre SPLNG Terminal site. Additional temporary work areas would also be required for material laydown, equipment storage, and parking. Locations for the additional temporary work areas are under development and will be provided at a later date.

Construction of the planned CCTPL Expansion Project would disturb about 1,621.2 acres of land, including 1,579.2 acres for construction of the pipeline and 42 acres for the aboveground facilities. Following construction, about 640.1 acres would be maintained for operation of the pipeline and aboveground facilities. The MLVs and launcher/receivers would be installed within the permanent right-of-way. In addition to the land requirements noted above, additional land would be required for temporary access roads to the pipeline construction right-of-way, permanent access roads to the new aboveground facilities, and temporary contractor/pipe yards for the storage of equipment, materials, and pipe.

The EA Process

The National Environmental Policy Act (NEPA) requires the Commission to take into account the environmental impacts that could result from an action whenever it considers the issuance of a Certificate of Public Convenience and Necessity. NEPA also requires us ⁴ to discover and address concerns the public may have about proposals. This process is referred to as “scoping.” The main goal of the scoping process is to focus the analysis in the EA on the important environmental issues. By this notice, the Commission requests public comments on the scope of the issues to address in the EA. All comments received will be considered during the preparation of the EA.

⁴ “We,” “us,” and “our” refer to the environmental staff of the Commission's Office of Energy Projects.

In the EA we will discuss impacts that could occur as a result of the construction and operation of the planned project under these general headings:

• Geology and soils;

• Land use;

• Water resources, fisheries, and wetlands;

• Cultural resources;

• Vegetation and wildlife;

• Air quality and noise;

• Endangered and threatened species;

• Public safety; and

• Cumulative impacts.

We will also evaluate reasonable alternatives to the Project or portions of the Project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EA.

Our independent analysis of the issues will be presented in the EA. The EA will be placed in the public record and, will be published and distributed to the public. A comment period will be allotted after the EA is published for review. We will consider all comments on the EA before we make our recommendations to the Commission. To ensure your comments are considered, please carefully follow the instructions in the Public Participation section of this notice.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice. Currently, the U.S. Department of Energy (USDOE), Office of Fossil Energy (FE), and the U.S. Army Corps of Engineers have expressed their intention to participate as cooperating agencies in the preparation of the EA to satisfy their NEPA responsibilities related to this project.

Involvement of the U.S. Department of Energy

The FERC is the lead federal agency in preparing the EA to satisfy the requirements of the NEPA. The USDOE, FE, has agreed to participate as a cooperating agency in the preparation of the EA to satisfy its NEPA responsibilities.

Under section 3 of the Natural Gas Act of 1938, as amended, 15 USC 717b, the USDOE would authorize applications to export natural gas, including LNG, unless it finds that the proposed export would not be consistent with the public interest. For the SPLE Project, the purpose and need for USDOE action is to respond to two applications received by Sabine Pass Liquefaction, LLC (SPL) filed with USDOE on February 27, 2013 (FE Docket No. 13-30-LNG), and on April 2, 2013 (FE Docket No. 13-42-LNG), seeking authorization to export up to 0.28 Bcf/d and 0.24 Bcf/d, respectively, of domestic natural gas as LNG. SPL requests to export LNG for a 20-year period from the proposed SPL facilities in Cameron Parish, Louisiana, commencing the earlier of the date of first export or eight years from the date that the requested authorization is issued.

Consultations Under Section 106 of the Natural Historic Preservation Act

In accordance with the Advisory Council on Historic Preservation's implementing regulations for section 106 of the Natural Historic Preservation Act, we are using this notice to initiate consultation with applicable State Historic Preservation Office(s) (SHPO), and to solicit their views and those of other government agencies, interested Indian tribes, and the public on the project's potential effects on historic properties.⁵ We will define the project-specific Area of Potential Effects (APE) in consultation with the SHPO(s) as the Project is further developed. On natural gas facility projects, the APE at a minimum encompasses all areas subject to ground disturbance (examples include construction right-of-way, contractor/pipe storage yards, compressor stations, and access roads). Our EA would document our findings on the potential Project impacts on historic properties and summarize the status of consultations under section 106.

⁵ The Advisory Council on Historic Preservation's regulations are at Title 36, Code of Federal Regulations, Part 800. Historic properties are defined in those regulations as any prehistoric or historic district, site, building, structure, or object included in or eligible for inclusion in the Natural Register for Historic Places.

Currently Identified Environmental Issues

We have already identified several issues that we think deserve attention based on a preliminary review of the planned facilities and the environmental information provided by Sabine Pass. This preliminary list of issues may be changed based on your comments and our analysis:

• Construction and operational impacts on residences near the planned compressor station;

• Air quality;

• Socioeconomics;

• Construction and operational impacts on wetlands and waterbodies;

• Construction and operational impacts on migratory birds and threatened and endangered species;

• Construction and operational impacts on agriculture;

• Impacts on cultural resources, including Native American properties;

• Cumulative environmental impacts; and

• Public safety.

Public Participation

You can make a difference by providing us with your specific comments or concerns about the Project. Your comments should focus on the potential environmental effects, reasonable alternatives, and measures to avoid or lessen environmental impacts. The more specific your comments, the more useful they will be. To ensure that your comments are timely and properly recorded, please send your comments so that they will be received in Washington, DC, on or before July 10, 2013.

For your convenience, there are three methods which you can use to submit your comments to the Commission. In all instances please reference the project docket number (PF13-8-000) with your submission. The Commission encourages electronic filing of comments and has expert eFiling staff available to assist you at (202) 502-8258 or efiling@ferc.gov.

(1) You may file your comments electronically by using the eComment feature, which is located on the Commission's Web site at www.ferc.gov under the link to Documents and Filings. An eComment is an easy method for interested persons to submit brief, text-only comments on a project;

(2) You may file your comments electronically by using the eFiling feature, which is located on the Commission's Web site at www.ferc.gov under the link to Documents and Filings. With eFiling, you can provide comments in a variety of formats by attaching them as a file with your submission. New eFiling users must first create an account by clicking on “eRegister.” You will be asked to select the type of filing you are making. A comment on a particular project is considered a “Comment on a Filing”; or

(3) You may file a paper copy of your comments at the following address: Kimberly D. Bose, Secretary, Federal Energy Regulatory Commission, 888 First Street NE., Room 1A, Washington, DC 20426.

Environmental Mailing List

The environmental mailing list includes federal, state, and local government representatives and agencies; elected officials; Native American Tribes; environmental and public interest groups; other interested parties; and local libraries and newspapers. This list also includes all affected landowners (as defined in the Commission's regulations) who own homes within certain distances of aboveground facilities, and anyone who submitted comments on the project. We have made every effort to include all commentors on the mailing list; however, we are unable to include commentors that did not include a physical address with their comments. We will update the environmental mailing list as the analysis proceeds to ensure that we send the information related to this environmental review to all individuals, organizations, and government entities interested in and/or potentially affected by the planned project.

Once the EA is published for distribution, copies will be sent to the environmental mailing list for public review and comment. If you would prefer to receive a paper copy of the document instead of the CD version or would like to remove your name from the mailing list, please return the attached Information Request (Appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site.

Additional Information

Additional information about the project is available from the Commission's Office of External Affairs, at (866) 208-FERC, or on the FERC Web site at www.ferc.gov using the “eLibrary” link. Click on the eLibrary link, click on “General Search” and enter the docket number, excluding the last three digits in the Docket number field (i.e., PF13-8). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: June 7, 2013.
Kimberly D. Bose,
Secretary.

[FR Doc. 2013-14061 Filed 6-12-13; 8:45 am]

BILLING CODE 6717-01-P